DEPARTMENT OF AGRICULTURE

Forest Service

Deschutes Provincial Advisory Committee (DPAC); Meeting

AGENCY: Forest Service, USDA.

ACTION: Notice of meeting.

SUMMARY: The Deschutes Advisory Committee will meet on June 11th, 2003 starting at 9 a.m. at the Jefferson County Firehall on the corner of Adam and “J” Street in Madras, Oregon. Agenda items will include a presentation on the Deschutes National Forest Recreation Initiative, Update on the status of the Aquatic Conservation Strategy and Survey and Management Supplemental EISs, Update on the Upper Deschutes Resource Management Plan and Metolious Basin Subcommittees, Rechartering, Wrap up of the 2002 NWFP monitoring, and a briefing on the new Stewardship Contract authority. The remainder of the day will include info sharing and a Public Forum from 4 p.m. till 4:30 pm. All Deschutes Province Advisory Committee Meetings are open to the public.

FOR FURTHER INFORMATION CONTACT: Chris Mickle, Province Liaison, Deschutes NF, Crescent RD, P.O. Box 208, Crescent, OR 97754, Phone (541) 433-3216.

Dated: May 7, 2003.
Leslie A.C. Weldon,
Deschutes National Forest Supervisor.

[FR Doc. 03-11869 Filed 5-13-03; 8:45 am]

BILLING CODE 3410-11-M